DEPARTMENT OF AGRICULTURE

Natural Resources Conservation Service

[Docket No. NRCS 2016-0013]

Notice of Availability of the Mississippi Trustee Implementation Group Draft 2016-2017 Restoration Plan/Environmental Assessment for Review and Public Comment

AGENCY: Natural Resources Conservation Service (NRCS).

ACTION: Notice of availability; request for comments.

SUMMARY: In accordance with the Oil Pollution Act of 1990 (OPA) and the National Environmental Policy Act (NEPA), the Deepwater Horizon Federal and State natural resource trustee agencies for the Mississippi Trustee Implementation Group (MS TIG) have prepared a Draft 2016-2017 Restoration Plan/Environmental Assessment (Draft RP/EA). The Draft RP/EA describes and proposes restoration project alternatives and proposed projects considered by the MS TIG to restore natural resources and ecological services injured or lost as a result of the Deepwater Horizon oil spill. The proposed projects are consistent with the restoration alternatives selected in the Final Programmatic Damage Assessment and Restoration Plan/Programmatic Environmental Impact Statement (PDARP/PEIS). The purpose of this notice is to inform the public of the availability of the Draft RP/EA and to seek public comments on the document.

DATES: Effective Date: This is effective December 27, 2016. Comments Date: Submit comments on or before February 10, 2017.

ADDRESSES: Obtaining Documents: You may download the Draft RP/EA at http://www.gulfspillrestoration.noaa.gov. Alternatively, you may request a CD of the Draft RP/EA (see FOR FURTHER INFORMATION CONTACT). Also, you may view the document at any of the public facilities listed at http://www.gulfspillrestoration.noaa.gov.

Submitting Comments: You may submit comments on the Draft RP/EA by one of following methods:

• Via the Web: http://www.gulfspillrestoration.noaa.gov or

• Via U.S. Mail: U.S. Fish and Wildlife Service, P.O. Box 49567, Atlanta, Georgia 30345. Please note that mailed comments must be postmarked on or before the comment deadline of February 10, 2017 to be considered.

FOR FURTHER INFORMATION CONTACT: Mississippi—Tabatha Baum, mississippiTIG@deq.state.ms.us.

SUPPLEMENTARY INFORMATION:

Introduction

On April 20, 2010, the mobile offshore drilling unit Deepwater Horizon that was being used to drill a well for BP Exploration and Production Inc. (BP) in the Macondo prospect (Mississippi Canyon 252—MC252) exploded, caught fire, and subsequently sank in the Gulf of Mexico, resulting in an unprecedented volume of oil and other discharges from the rig and from the wellhead on the seabed. The Deepwater Horizon oil spill is the largest maritime oil spill in United States (U.S.) history, discharging millions of barrels of oil over a period of 87 days. In addition, well over one million gallons of dispersants were applied to the waters of the spill area in an attempt to disperse the spilled oil. An undetermined amount of natural gas also was released to the environment as a result of the spill.

The Deepwater Horizon State and Federal natural resource trustees (DWH Trustees) conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior (DOI), as represented by the National Park Service (NPS), U.S. Fish and Wildlife Service (FWS), and Bureau of Land Management (BLM);

• National Oceanic and Atmospheric Administration (NOAA), on behalf of the U.S. Department of Commerce (DOC);

• U.S. Department of Agriculture (USDA);

• U.S. Department of Defense (DOD); ¹

¹ Although a trustee under OPA by virtue of the proximity of its facilities to the Deepwater Horizon oil spill, DOD is not a member of the Trustee Council and does not participate in DWH Trustee decision-making.

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• For the State of Texas, Texas Parks and Wildlife Department, Texas General Land Office, and Texas Commission on Environmental Quality.

Upon completion of the NRDA, the DWH Trustees reached and finalized a settlement of their natural resource damage claims with BP in a Consent Decree ² approved by the U.S. District Court for the Eastern District of Louisiana. Pursuant to that Consent Decree, restoration projects in the Mississippi Restoration Area are now chosen and managed by MS TIG.

² https://www.justice.gov/enrd/file/838066/download.

MS TIG is composed of the following Trustees:

• Mississippi Department of Environmental Quality;

• DOI, as represented by NPS, USFWS, and BLM;

• NOAA, on behalf of the U.S. DOC;

• USDA;

• EPA;

This restoration planning activity is proceeding in accordance with the Deepwater Horizon Oil Spill: Final Programmatic Damage Assessment and Restoration Plan (PDARP) and Final Programmatic Environmental Impact Statement (PEIS). Information on the restoration types being considered in the Draft RP/EA, as well as the OPA criteria against which project ideas are being evaluated, can be viewed in the PDARP/PEIS (http://www.gulfspillrestoration.noaa.gov/restoration-planning/gulf-plan) and in the Overview of the PDARP/PEIS (http://www.gulfspillrestoration.noaa.gov/restoration-planning/gulf-plan).

Background

On May 27, 2016, MS TIG published a notice to invite public input regarding natural resource restoration opportunities in the Mississippi Restoration Area for the 2016-2017 planning years. The notice indicated a focus on the following range of potential restoration types that may have benefits to living coastal and marine resources: Restoration of Wetlands, Coastal and Nearshore Habitats, restoration of water quality through Nutrient Reduction (Nonpoint source), restoration of Birds, and restoration of Oysters. Because there are several ongoing or completed projects benefitting oysters and secondary productivity in the Mississippi Restoration Area, MS TIG chose not to prioritize the oyster restoration type in this Draft RP/EA.

On October 31, 2016, MS TIG published a Notice of Initiation for Restoration Plan Drafting in Mississippi indicating its intent to focus on the following restoration types:

• Wetlands, Coastal and Nearshore Habitats

• Nutrient Reduction (nonpoint source)

• Birds

Overview of the Draft RP/EA

The Draft RP/EA is being released in accordance with the OPA, NRDA regulations in the Code of Federal Regulations (CFR) at 15 CFR part 990, and the NEPA (42 U.S.C. 4321 et seq.).

For the Draft RP/EA, MS TIG proposes moving forward with the following two preferred alternatives and proposed projects within the Wetlands, Coastal and Nearshore Habitat and Birds Restoration Types: (1) Graveline Bay Land Acquisition and Management and (2) Grand Bay Land Acquisition and Habitat Management. MS TIG also proposes the following preferred alternative and proposed project within the Nutrient Reduction (Nonpoint Source) Restoration Type: Upper Pascagoula River Water Quality Enhancement. RP/EA also evaluates a no action alternative. One or more alternatives may be selected for implementation by MS TIG.

MS TIG has examined and assessed the extent of injury and the restoration alternatives. In the Draft RP/EA, MS TIG presents to the public its draft plan for providing partial compensation to the public for natural resources and ecological services in the Mississippi Restoration Area. The proposed projects are intended to continue the process of restoring natural resources and ecological services injured or lost as a result of the Deepwater Horizon oil spill. Additional restoration planning for the Mississippi Restoration Area will continue.

Next Steps

The public is encouraged to review and comment on the Draft RP/EA. After the close of the public comment period, MS TIG will consider and address the comments received before issuing a final RP/EA. A summary of comments received and MS TIG's responses will be included in the final document.

Invitation to Comment

MS TIG seeks public review and comment on the Draft RP/EA. Before including your address, telephone number, email address, or other personal identifying information in your comment, you should be aware that your entire comment, including your personal identifying information, may be publicly available at any time.

Administrative Record

The documents included in the Administrative Record can be viewed electronically at the following location: http://www.doi.gov/deepwaterhorizon/adminrecord.

Authority

The authority of this action is the OPA of 1990 (33 U.S.C. 2701 et seq.) and the implementing NRDA regulations found at 15 CFR part 990.

Signed this 20th day of December 2016, in Washington, DC.
Jason A. Weller,
Chief, Natural Resources Conservation Service.

[FR Doc. 2016-31064 Filed 12-23-16; 8:45 am]

BILLING CODE P